DEPARTMENT OF TRANSPORTATION

Research and Special Programs Administration

[Docket No. RSPA-01-10867; Notice 2]

Pipeline Safety: Petition for Waiver; Williams Gas Pipelines-West

Williams Gas Pipelines-West (or “Williams”) petitioned the Research and Special Programs Administration (RSPA) for a waiver from compliance with the regulation at 49 CFR 192.611(d) until June 30, 2003. This regulation requires pipeline operators to confirm or revise the maximum allowable operating pressure of certain gas transmission lines within 18 months after population growth changes the classification of the line.

The petition concerns a 1500-foot pipeline segment constructed in 1991 in Utah County, Utah, that changed from Class 2 to Class 3 due to development of a subdivision. The segment is part of the Kern River natural gas transmission line, which runs from Wyoming to the San Joaquin Valley near Bakersfield, California, where the gas is used in the generation of electricity.

The petition indicates the change in classification comes while Williams is undertaking an expansion project on its Kern River line, which it plans to complete in 2003, pending approval by the Federal Energy Regulatory Commission. Rather than replace the 1500-foot segment with new pipe to satisfy § 192.611(d), the petition indicates Williams prefers to relocate the segment to a less populated right-of-way as part of the expansion project. The relocation alternative would result in a single impact to land owners and the environment during the construction.

In response to Williams' petition, we published a notice explaining why granting a waiver from 49 CFR 192.611(d) until June 30, 2003, to allow Williams time to carry out its relocation plan, would not be inconsistent with pipeline safety (Notice 1; 66 FR 59045; Nov. 26, 2001). In that notice, we invited interested persons to submit written comments on the proposed waiver by December 26, 2001. However, we did not receive any comments on the proposed waiver.

In accordance with the foregoing, RSPA, by this order, finds that compliance with § 192.611(d) is unnecessary for the reasons stated in Notice 1 of this proceeding, and that granting Williams' requested waiver would not be inconsistent with pipeline safety. Accordingly, Williams' petition for waiver from compliance with § 192.611(d) is granted until June 30, 2003. As stated in Notice 1, if there is an unforeseen delay in the relocation project, we may extend the June 30, 2003, deadline up to an additional 6 months without further opportunity to comment by publishing a notice of such extension in the Federal Register.

Authority: 49 U.S.C. 60118(c); and 49 CFR 1.53.

Issued in Washington, DC on January 24, 2002.
Stacey L. Gerard,
Associate Administrator for Pipeline Safety.

[FR Doc. 02-2211 Filed 1-29-02; 8:45 am]

BILLING CODE 4910-60-P